DEPARTMENT OF STATE

Delegation of Authority 390; Delegation of Certain Authorities and Functions Under the International Organizations Immunities Act

By virtue of the authority vested in the Secretary of State by Section 1 of the State Department Basic Authorities Act (22 U.S.C. 2651a) and the International Organizations Immunities Act (the Act), and delegated pursuant to Delegation of Authority 245-1, dated February 13, 2009, I hereby delegate to the Under Secretary for Management, to the extent consistent with law, the authorities and functions contained in Section 8 of the Act, as amended (22 U.S.C. 288e).

This authority may be re-delegated to the extent consistent with law.

Any actions related to the functions described herein that may have been taken prior to the date of this delegation of authority by the Office of the Chief of Protocol; the U.S. Mission to the United Nations; or the Office of Foreign Missions, are hereby confirmed and ratified. Such actions shall remain in force as if taken under this delegation of authority, unless or until such actions are rescinded, amended or superseded.

Notwithstanding any provisions herein, the Secretary, Deputy Secretary, or the Deputy Secretary for Management and Resources may at any time exercise the functions herein delegated. Any act, executive order, regulation, manual or procedure subject to, affected, or incorporated by, this delegation shall be deemed to be such act, executive order, regulation, manual or procedure as amended from time to time.

This document shall be published in the Federal Register.

Dated: November 19, 2015.
Heather A. Higginbottom,
Deputy Secretary of State for Management and Resources.

[FR Doc. 2015-30547 Filed 12-2-15; 8:45 am]

BILLING CODE 4710-08-P